DEPARTMENT OF STATE

[Public Notice 8389]

Culturally Significant Objects Imported for Exhibition Determinations: “Before and After the Horizon: Anishinaabe Artists of the Great Lakes”

AGENCY: Department of State.

ACTION: Notice, correction.

SUMMARY: On May 28, 2013, notice was published on page 32000 of the Federal Register (volume 78, number 102) of determinations made by the Department of State pertaining to the exhibition “Before and After the Horizon: Anishinaabe Artists of the Great Lakes.” The referenced notice is corrected here to include additional objects as part of the exhibition. Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the additional objects to be included in the exhibition “Before and after the Horizon: Anishinaabe Artists of the Great Lakes,” imported from abroad for temporary exhibition within the United States, are of cultural significance. The objects are imported pursuant to a loan agreement with the foreign owner or custodian. I also determine that the exhibition or display of the exhibit objects at the National Museum of the American Indian, New York, New York, from on or about August 3, 2013, until on or about June 15, 2014, and at possible additional exhibitions or venues yet to be determined, is in the national interest. I have ordered that Public Notice of these Determinations be published in the Federal Register.

FOR FURTHER INFORMATION CONTACT: For further information, including a list of the additional exhibit objects, contact Paul W. Manning, Attorney-Adviser, Office of the Legal Adviser, U.S. Department of State (telephone: 202-632-6469). The mailing address is U.S. Department of State, SA-5, L/PD, Fifth Floor (Suite 5H03), Washington, DC 20522-0505.

Dated: July 16, 2013.
Ann Stock,
Assistant Secretary, Bureau of Educational and Cultural Affairs, Department of State.

[FR Doc. 2013-17687 Filed 7-22-13; 8:45 am]

BILLING CODE 4710-05-P